SECURITIES AND EXCHANGE COMMISSION

[Release No. 34-42832; File No. SR-ODD-00-02]

Self-Regulatory Organizations; OM London Exchange Limited; Order Approving Proposed Amendment to Options Disclosure Document

May 25, 2000.

On May 25, 2000, the OM London Exchange Limited (“OM London”) submitted to the Securities and Exchange Commission (“Commission” or “SEC”), pursuant to Rule 9b-1 under the Securities Exchange Act of 1934 (“Act”) ¹ five definitive copies of OM London's options disclosure document (“ODD”), which OM London has revised to reflect the introduction of OMXcap Index options.²

¹ 17 CFR 240.9b-1.

² The Commission previously reviewed OM London's ODD and found that its complied with Rule 9b-1 under the Act. See Securities Exchange Act Release No. 39080 (September 15, 1997), 62 FR 49553 (September 22, 1997) (order approving File No. SR-ODD-97-1).

OM London's ODD currently contains general disclosures concerning the characteristics and risks of trading equity and index options on OM London. Prior to May 26, 2000, OM London listed options on Swedish equity securities and on the OMX Index. On May 26, 2000, OM London will also list options on the OMXcap Index, a modified capital-weighted index designed to reflect the development of the Swedish stock market. OM London has revised its ODD to accommodate the introduction of OMXcap Index options. OM London's revised ODD also includes disclosures concerning certain restrictions on the trading of OMX Index options after May 26, 2000.

The Commission has reviewed OM London's revised ODD and finds that it complies with Rule 9b-1 under the Act. OM London's revised ODD provides information regarding OMXcap Index options sufficient to describe the special characteristics of OMXcap Index options.

Rule 9b-1 provides that an options market must file five preliminary copies of an amended ODD with the Commission at least 30 days prior to the date definitive copies of the ODD are furnished to customers, unless the Commission determines otherwise, having due regard for the adequacy of information disclosed and the protection of investors.³ The Commission has reviewed OM London's revised ODD and finds that it is consistent with the protection of investors and in the public interest to allow the distribution of OM London's revised ODD as of the date of this order.⁴

³ This provision is intended to permit the Commission either to accelerate or extend the time period in which definitive copies of a disclosure document may be distributed to the public.

⁴ Rule 9b-1 provides that the use of an ODD shall not be permitted unless the option class to which the document relates is the subject of an effective registration statement on Form S-20 under the Securities Act of 1933. On September 12, 1997, the Commission, pursuant to delegated authority, declared effective OM London's revised Form S-20 registration statement. See File No. 333-34519.

It is Therefore Ordered, pursuant to Rule 9b-1 under the Act,⁵ that OM London's ODD as amended to reflect the listing of OMXcap index options (File NO. SR-ODD-00-02) is approved on an accelerated basis.

⁵ 17 CFR 240.9b-1.

⁶ 17 CFR 200.30-3(a)(39)(i).

For the Commission, by the Division of Market Regulation, pursuant to delegated authority.⁶
⁶ 17 CFR 200.30-3(a)(39(i)
Margaret H. McFarland,
Deputy Secretary.

[FR Doc. 00-13960 Filed 6-2-00; 8:45 am]

BILLING CODE 8010-01-M